DEPARTMENT OF COMMERCE

National Oceanic and Atmospheric Administration

50 CFR Part 648

[Docket No. 170104014-7014-01]

RIN 0648-BG53

Magnuson-Stevens Fishery Conservation and Management Act Provisions; Fisheries of the Northeastern United States; Northeast Groundfish Fishery; Framework Adjustment 56

AGENCY: National Marine Fisheries Service (NMFS), National Oceanic and Atmospheric Administration (NOAA), Commerce.

ACTION: Proposed rule; request for comments.

SUMMARY: This action proposes approval of, and regulations to implement, Framework Adjustment 56 to the Northeast Multispecies Fishery Management Plan. This rule would set catch limits for four of the 20 groundfish stocks, adjust several allocations and accountability measures (AMs) for groundfish catch in non-groundfish fisheries, and make other administrative changes to groundfish management measures. This action is necessary to respond to updated scientific information and achieve the goals and objectives of the Fishery Management Plan. The proposed measures are intended to help prevent overfishing, rebuild overfished stocks, achieve optimum yield, and ensure that management measures are based on the best scientific information available.

DATES: Comments must be received by July 7, 2017.

ADDRESSES: You may submit comments, identified by NOAA-NMFS-2017-0021, by either of the following methods:

• Federal eRulemaking Portal: Go to www.regulations.gov/#!docketDetail;D=NOAA-NMFS-2017-0021; Click the “Comment Now!” icon and complete the required fields; and enter or attach your comments.

• Mail: Submit written comments to John K. Bullard, Regional Administrator, National Marine Fisheries Service, 55 Great Republic Drive, Gloucester, MA 01930. Mark the outside of the envelope, “Comments on the Proposed Rule for Groundfish Framework Adjustment 56.”

Instructions: Comments sent by any other method, to any other address or individual, or received after the end of the comment period, may not be considered. All comments we receive are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

Copies of Framework Adjustment 56, including the draft Environmental Assessment, the Regulatory Impact Review, and the Initial Regulatory Flexibility Analysis prepared by the New England Fishery Management Council (NEFMC) in support of this action are available from Thomas A. Nies, Executive Director, New England Fishery Management Council, 50 Water Street, Mill 2, Newburyport, MA 01950. The supporting documents are also accessible via the Internet at: http://www.nefmc.org/management-plans/northeast-multispecies or http://www.greateratlantic.fisheries.noaa.gov/sustainable/species/multispecies.

FOR FURTHER INFORMATION CONTACT: Aja Szumylo, Fishery Policy Analyst, phone: 978-281-9195; email: Aja.Szumylo@noaa.gov.

SUPPLEMENTARY INFORMATION:

Table of Contents

1. Summary of Proposed Measures

2. Status Determination Criteria for Witch Flounder

3. Fishing Year 2017 Shared U.S./Canada Quotas

4. Catch Limits

5. Allocation of Northern Windowpane Flounder for the Scallop Fishery

6. Revised Threshold for Scallop Accountability Measures

7. Increase to Georges Bank Haddock Catch Limit for the Midwater Trawl Fishery

8. Sector Measures for Fishing Year 2017

9. Fishing Year 2017 Annual Measures Under Regional Administrator Authority

10. Fishing Year 2017 Northern and Southern Windowpane Flounder Accountability Measures

11. Regulatory Corrections Under Regional Administrator Authority

1. Summary of Proposed Measures

This action would implement the management measures in Framework Adjustment 56 to the Northeast Multispecies Fishery Management Plan (FMP). The Council deemed the proposed regulations consistent with, and necessary to implement, Framework 56 in an April 13, 2017, letter from Council Chairman John F. Quinn to Regional Administrator John Bullard. Under the Magnuson-Stevens Fishery Conservation and Management Act (Magnuson-Stevens Act), we are required to publish proposed rules for comment after preliminarily determining whether they are consistent with applicable law. The Magnuson-Stevens Act permits us to approve, partially approve, or disapprove measures proposed by the Council based on whether the measures are consistent with the fishery management plan, plan amendment, the Magnuson-Stevens Act and its National Standards, and other applicable law. Otherwise, we must defer to the Council's policy choices. Some regulations authorize the Regional Administrator to make determinations or implement specifications using procedures consistent with the Administrative Procedure Act. The Magnuson-Stevens Act also authorizes the Regional Administrator to put in place regulations that are necessary to ensure the proper administration of FMP goals and objectives. We are seeking comment on the Council's proposed measures in Framework 56 and whether they are consistent with the Magnuson-Stevens Act and its National Standards, and other applicable law. Through Framework 56, the Council proposes to:

• Set 2017 specifications for three shared U.S./Canada stocks (Eastern Georges Bank (GB) cod, Eastern GB haddock, and GB yellowtail flounder);

• Set 2017-2019 specifications for witch flounder;

• Establish an allocation of northern windowpane flounder for the scallop fishery;

• Revise catch thresholds for implementing the scallop fishery's accountability measures for GB yellowtail flounder and northern windowpane flounder; and

• Increase the GB haddock allocation for the midwater trawl fishery.

This action also proposes a number of other measures that are not part of Framework 56, but that may be considered and implemented under our authority specified in the FMP. We are proposing these measures in conjunction with the Framework 56 proposed measures for expediency purposes, and because these measures are related to the catch limits proposed as part of Framework 56. The additional measures proposed in this action are listed below.

• Management measures necessary to implement sector operations plans—This action proposes annual catch entitlements for 19 sectors for fishing year 2017 based on final fishing year 2017 sector rosters.

• Management measures for the common pool fishery—This action proposes to adjust the fishing year 2017 trip limit for witch flounder for the common pool fishery, related to the proposed change to the witch flounder specifications in this action.

• 2017 Accountability measures for windowpane flounder—This action describes accountability measures for northern and southern windowpane flounder that are implemented due to overages of fishing year 2015 catch limits for both stocks. We informed the New England Council of these accountability measures at its September 2016 meeting, and in our September 27, 2016, letter to New England Council Executive Director Thomas Nies, and in our October 7, 2016, letter to Mid-Atlantic Council Executive Director Chris Moore. Given the potential negative economic impact of these measures this year, we are seeking public comment on these type of measures in similar circumstances for the future through this proposed rule.

2. Status Determination Criteria for Witch Flounder

The Northeast Fisheries Science Center conducted a witch flounder benchmark assessment in 2016. The final report for the benchmark assessment is available on the NEFSC Web site: http://www.nefsc.noaa.gov/publications/crd/crd1703/. The assessment peer review panel rejected the 2016 benchmark assessment model for witch flounder. An important source of uncertainty for this assessment is a major retrospective pattern, which causes the model to underestimate fishing mortality and overestimate stock biomass and recruitment. The assessment was unable to identify the cause of the retrospective pattern. The model had other diagnostic issues in addition to the retrospective pattern that indicated the model was a poor fit to the underlying data. There was also an inconsistency between model-based catchability estimates for the Northeast Fishery Science Center trawl surveys and a recent gear catchability experiment. Biomass estimates from the catchability experiment were about four times higher than the biomass estimates from the model at the end of the time series.

As part of the review process, the peer review panel evaluated the previous witch flounder benchmark assessment, originally conducted in 2008 and updated in 2012 and 2015. The 2008 benchmark assessment and its updates all supported determinations that the witch flounder stock was overfished, and that overfishing was occurring. The 2016 peer review panel updated the 2008 benchmark as part of its review, and ultimately rejected the update because it showed a large, unexplained retrospective patterns similar to the 2016 benchmark assessment model. The panel recommended that none of these assessments should be used as a basis for determining witch flounder stock status.

Given the lack of an assessment model, the peer review panel examined an alternative approach that used swept-area biomass estimates to generate catch advice. The panel did not have sufficient time to use this approach to fully develop alternative status determination criteria. However, the panel provided recommendations to prevent overfishing. The panel also concluded that stock biomass is at historical low levels based on relative biomass estimates from the alternative approach. In addition, the fishery landings and survey catch indicate truncation of age structure and a reduction in the number of old fish in the population. These are both indicators of poor stock condition. We discuss additional details about the 2016 benchmark assessment results, and the proposed 2017-2019 catch limits for witch flounder, in section “4. Catch Limits.”

We approved the existing status determination criteria for witch flounder in Amendment 16 to the Northeast Multispecies FMP (75 FR 18261; April 9, 2010). The existing criteria state that the witch flounder stock is subject to overfishing if the fishing mortality rate (F) is above the F at 40 percent of maximum spawning potential. The witch flounder stock is overfished if spawning stock biomass falls below ½ of the target, which is also calculated using F at 40 percent of maximum spawning potential. This definition was based on the benchmark assessments reviewed during the 3rd Groundfish Assessment Review Meeting (GARM III), completed in August 2008, and is the same as the status determination criteria currently in place for most of the Northeast multispecies stocks with age-based assessments.

The Council relied on the advice from the assessment peer review panel and its Scientific and Statistical Committee (SSC) to recommend changing the status determination criteria for witch flounder to unknown. If the status determination criteria are changed to unknown, however, there would be no measurable and objective standards in place against which to judge the status of the witch flounder stock. We propose disapproving the Council's recommendation, and maintaining the existing criteria until a valid assessment model is available to use for setting new catch limits or for generating new criteria. This is new guidance to the Council, provided after it took final action on Framework 56, and is different than the approach the Council has taken, and that we have approved, for recommending status determination criteria for other groundfish stocks with rejected assessments (e.g., GB yellowtail flounder).

Status determination relative to model-based reference points is no longer possible for witch flounder, and we recognize that we do not have fishing mortality and biomass estimates to compare to the existing status determination criteria. In conjunction with the 2017 assessment updates, we will work with the Council to use updated fishery information to develop fishing mortality and biomass estimates and new status determination criteria for this stock.

The witch flounder stock was previously listed as subject to overfishing and overfished. Despite the rejection of the recent stock assessments for stock status purposes and lack of numerical estimates of stock size, there is qualitative information in the assessment that supports continuing to list the status as overfished, but changing the overfishing status from subject to overfishing to unknown. The conclusion that the stock is at historical low levels and other signs of poor stock condition, provide reliable indicators that support this stock remaining listed as overfished. Unlike the overfished status, for which we have reliable indicators of stock condition, we do not have reliable indicators for the overfishing status. While we cannot specify an overfishing status determination criterion for this stock, catch for the last five years has been below the ACL. The lack of reliable indicators, the rejection of the recent stock assessment, and the fact that catch has remained below the ACL, support changing the overfishing status of this stock to unknown.

In the meantime, we are proposing an acceptable biological catch (ABC) as recommended by the Council, and catch data shows this ABC is expected to prevent overfishing. The limits set from this recommendation are based on historic catch rates and other data that are expected to maintain or improve current biomass levels. There is currently a rebuilding plan in place for witch flounder that has an end date of 2017. We were waiting for the results of the 2016 assessment update, as well as the revisions to the National Standard 1 Guidelines, to provide guidance to the Council regarding how to proceed with the rebuilding plan. Prior to the 2016 assessment, and based on the results of the 2015 assessment update, which found that 2014 spawning stock biomass was at 22 percent of the biomass target, and that the stock was not expected to reach the 2017 rebuilding target even in the absence of fishing mortality, we were anticipating that we would need to notify the Council that it was necessary to revise the rebuilding plan. Although a quantitative status determination relative to the 2016 benchmark assessment results is not possible, there are indications that the stock is still in poor condition, and will continue to need conservative management measures to promote stock growth. Based on what we know of the stock's condition, the proposed catch limits are designed to maintain or improve current biomass levels. We are finalizing our guidance regarding any necessary adjustments to the rebuilding plan and will advise the Council on the next steps prior to the fall 2017 groundfish assessment updates. Additionally, at whatever point the stock assessment for witch flounder can provide biomass estimates, these estimates can be used to evaluate progress towards the rebuilding targets.

3. Fishing Year Shared 2017 U.S./Canada Quotas

Management of Transboundary Georges Bank Stocks

Eastern GB cod, eastern GB haddock, and GB yellowtail flounder are jointly managed with Canada under the United States/Canada Resource Sharing Understanding. Each year, the Transboundary Management Guidance Committee (TMGC), which is a government-industry committee made up of representatives from the U.S. and Canada, recommends a shared quota for each stock based on the most recent stock information and the TMGC's harvest strategy. The TMGC's harvest strategy for setting catch levels is to maintain a low to neutral risk (less than 50 percent) of exceeding the fishing mortality limit for each stock. The harvest strategy also specifies that when stock conditions are poor, fishing mortality should be further reduced to promote stock rebuilding. The shared quotas are allocated between the U.S. and Canada based on a formula that considers historical catch (10-percent weighting) and the current resource distribution (90-percent weighting).

For GB yellowtail flounder, the SSC also recommends an ABC for the stock, which is typically used to inform the U.S. TMGC's discussions with Canada for the annual shared quota. Although the stock is jointly managed with Canada, and the TMGC recommends annual shared quotas, the United States may not set catch limits that would exceed the SSC's recommendation. The SSC does not recommend ABCs for eastern GB cod and haddock because they are management units of the total GB cod and haddock stocks. The SSC recommends overall ABCs for the total GB cod and haddock stocks. The shared U.S./Canada quota for eastern GB cod and haddock is accounted for in these overall ABCs, and must be consistent with the SSC's recommendation for the total GB stocks.

2017 U.S./Canada Quotas

The Transboundary Resources Assessment Committee (TRAC) conducted assessments for the three transboundary stocks in July 2016, and detailed summaries of these assessments can be found at: http://www.nefsc.noaa.gov/saw/trac/. The TMGC met in September 2016 to recommend shared quotas for 2017 based on the updated assessments, and the Council adopted the TMGC's recommendations in Framework 56. The proposed 2017 shared U.S./Canada quotas, and each country's allocation, are listed in Table 1.

Table 1—Proposed Fishing Year 2017 U.S./Canada Quotas (mt, Live Weight) and Percent of Quota Allocated to Each Country
Quota | Eastern GB cod | Eastern GB haddock | GB Yellowtail flounder
Total Shared Quota | 730 | 50,000 | 300
U.S. Quota | 146 (20%) | 29,500 (59%) | 207 (69%)
Canada Quota | 584 (80%) | 20,500 (41%) | 93 (31%)

The Council's proposed 2017 U.S. quota for eastern GB haddock would be a 95-percent increase compared to 2016. This increase is due to an increase in the shared U.S./Canada quota, as well as an increase in the amount of the quota that is allocated to the United States. The proposed 2017 U.S. quota for eastern GB cod would also be a small increase from 2016 (6 percent). The Council's proposed U.S. quota for GB yellowtail flounder would be a 23-percent decrease compared to 2016. The decrease is in response to continued poor stock condition and a decrease in the U.S. share of the quota. For a more detailed discussion of the TMGC's 2017 catch advice, see the TMGC's guidance document under the “Resources” tab at: http://www.greateratlantic.fisheries.noaa.gov/sustainable/species/multispecies/index.html.

The regulations implementing the U.S./Canada Resource Sharing Understanding require that any overages of the U.S. quota for eastern GB cod, eastern GB haddock, or GB yellowtail flounder be deducted from the U.S. quota in the following fishing year. If catch information for fishing year 2016 indicates that the U.S. fishery exceeded its quota for any of the shared stocks, we will reduce the respective U.S. quotas for fishing year 2017 in a future management action, as soon as possible. If any fishery that is allocated a portion of the U.S. quota exceeds its allocation and causes an overage of the overall U.S. quota, the overage reduction would only be applied to that fishery's allocation in the following fishing year. This ensures that catch by one component of the fishery does not negatively affect another component of the fishery.

4. Catch Limits

Summary of the Proposed Catch Limits

The catch limits proposed by the Council in this action can be found in Tables 2 through 9. A brief summary of how these catch limits were developed is provided below. More details on the proposed catch limits for each groundfish stock can be found in Appendix III to the Framework 56 Environmental Assessment (see ADDRESSES for information on how to get this document).

Last year, Framework 55 (81 FR 26412; May 2, 2016) adopted fishing year 2016-2018 catch limits for all groundfish stocks, except for the U.S./Canada stocks, which must be set every year. As discussed in section “2. Status Determination Criteria for Witch Flounder,” the Northeast Fisheries Science Center conducted a benchmark assessment for witch flounder in December 2016. The Council considered the results of the witch flounder benchmark assessment at its January 2017 meeting, and included revised catch limits in Framework 56. This rule proposes to implement fishing year 2017-2019 catch limits for witch flounder based on the recent stock assessment and consistent with the recommendations of the Council's SSC. This rule also proposes to incorporate shared U.S./Canada quotas (see section “3. Fishing Year 2017 Shared U.S./Canada Quotas). For most stocks, other than GB cod, GB haddock, GB yellowtail flounder, and witch flounder, catch limits included in this action are identical to those previously implemented in Framework 55, and became effective on May 1, 2017. There are changes to the northern windowpane flounder catch limits related to the proposed allocation of northern windowpane flounder to the scallop fishery (see section “5. Allocation of Northern Windowpane Flounder to the Scallop Fishery”). There are also minor changes to the catch limits for GB winter flounder and white hake due to revised estimates of Canadian catch. Table 2 details the percent change in the 2017 catch limit compared to fishing year 2016.

Overfishing Limits and Acceptable Biological Catches

The overfishing limit (OFL) serves as the maximum amount of fish that can be caught in a year without resulting in overfishing. The OFL for each stock is calculated using the estimated stock size and FMSY (i.e., the fishing mortality rate that, if applied over the long term, would result in maximum sustainable yield). The OFL does not account for scientific uncertainty, so the SSC typically recommends an ABC that is lower than the OFL in order to account for this uncertainty. Usually, the greater the amount of scientific uncertainty, the lower the ABC is set compared to the OFL. For GB cod, GB haddock, and GB yellowtail flounder, the total ABC is then reduced by the amount of the Canadian quota (see Table 3 for the Canadian share of these stocks). Additionally, although GB winter flounder, white hake, and Atlantic halibut are not jointly managed with Canada, there is some Canadian catch of these stocks. Because the total ABC must account for all sources of fishing mortality, expected Canadian catch of GB winter flounder (87 mt), white hake (42 mt), and Atlantic halibut (34 mt) is deducted from the total ABC. The U.S. ABC is the amount available to the U.S. fishery after accounting for Canadian catch. Additional details about the Council's proposed ABC for witch flounder is provided below.

Table 2—Proposed Fishing Years 2017-2019 Overfishing Limits and Acceptable Biological Catches
[mt, live weight]
Stock | 2017: OFL | 2017: U.S. ABC | Percent change from 2016 | 2018: OFL | 2018: U.S. ABC | 2019: OFL | 2019: U.S. ABC
GB Cod | 1,665 | 665 | −13 | 1,665 | 1,249
GOM Cod | 667 | 500 | 0 | 667 | 500
GB Haddock | 258,691 | 57,398 | 2 | 358,077 | 77,898
GOM Haddock | 5,873 | 4,534 | 25 | 6,218 | 4,815
GB Yellowtail Flounder | Unknown | 207 | −23 | Unknown | 354
SNE/MA Yellowtail Flounder | Unknown | 267 | 0 | Unknown | 267
CC/GOM Yellowtail Flounder | 707 | 427 | 0 | 7,900 | 427
American Plaice | 1,748 | 1,336 | 3 | 1,840 | 1,404
Witch Flounder | Unknown | 878 | 91 | Unknown | 878 | Unknown | 878
GB Winter Flounder | 1,056 | 702 | 5 | 1,459 | 702
GOM Winter Flounder | 1,080 | 810 | 0 | 1,080 | 810
SNE/MA Winter Flounder | 1,021 | 780 | 0 | 1,587 | 780
Redfish | 14,665 | 11,050 | 7 | 15,260 | 11,501
White Hake | 4,816 | 3,644 | −3 | 4,733 | 3,580
Pollock | 32,004 | 21,312 | 0 | 34,745 | 21,312
N. Windowpane Flounder | 243 | 182 | 0 | 243 | 182
S. Windowpane Flounder | 833 | 623 | 0 | 833 | 623
Ocean Pout | 220 | 165 | 0 | 220 | 165
Atlantic Halibut | 210 | 124 | 0 | 210 | 124
Atlantic Wolffish | 110 | 82 | 0 | 110 | 82
SNE/MA = Southern New England/Mid-Atlantic; CC = Cape Cod; N = Northern; S = Southern.
Note: An empty cell indicates no OFL/ABC is adopted for that year. These catch limits will be set in a future action.

Witch Flounder

As discussed under section “2. Status Determination Criteria for Witch Flounder,” both the 2016 witch flounder benchmark assessment and the previous benchmark assessment were rejected, and could not be used as a basis for catch advice. In the absence of an assessment model, the peer review panel recommended catch advice for witch flounder based on a swept-area biomass approach. The swept-area biomass approach is entirely different from the age-based assessment approaches used to generate past biomass estimates and catch limits. The swept-area biomass approach indicates that biomass declined from the 1960s to the mid-1990s, increased in the early 2000s, and declined until 2005. Since 2005, stock size appears to have been low relative to the 1960s, but relatively stable. The swept-area biomass approach generates an ABC of 878 mt by applying the mean exploitation rate from 2007 to 2015 to the 3-year moving average of exploitable biomass estimates from the spring and fall NOAA Fisheries trawl surveys.

The SSC met on January 17, 2017, to review the results of the recent benchmark assessment. The SSC's final report for its witch flounder ABC recommendation is available here: http://s3.amazonaws.com/nefmc.org/1_SSC_response_witchflounder_Jan2016_FINAL.pdf. The SSC agreed that the swept-area biomass approach results were the best available, and based on this approach, recommended an OFL of unknown, and an ABC of 878 mt. The Council discussed the SSC's recommendations on January 25, 2017, and recommended a constant ABC of 878 mt for fishing years 2017-2019. The 878 mt ABC recommendation represents a 91-percent increase over the 2016 ABC (460 mt). The higher catch limit recommendation should not be viewed as a simple increase. Rather, the swept-area biomass approach is entirely different from the age-based assessment approaches used to generate past catch limits.

The Northeast Fisheries Science center will conduct an assessment update for witch flounder in fall of 2017, in time to re-specify witch flounder catch limits for fishing year 2018, if necessary. Updated catch and assessment information may provide support for adjusting the ABC for future fishing years. Thus, although the Council proposes a 3-year constant ABC, the catch limits adopted may only be in place for 1 year.

Annual Catch Limits

Development of Annual Catch Limits

The U.S. ABC for each stock is divided among the various fishery components to account for all sources of fishing mortality. First, an estimate of catch expected from state waters and the “other” sub-component (i.e., non-groundfish fisheries) is deducted from the U.S. ABC. These sub-components are not subject to specific catch controls by the FMP. As a result, the state waters and other sub-components are not allocations, and these components of the fishery are not subject to accountability measures if the catch limits are exceeded. After the state and other sub-components are deducted, the remaining portion of the U.S. ABC is distributed to the fishery components that receive an allocation for the stock. Components of the fishery that receive an allocation are subject to accountability measures if they exceed their respective catch limit during the fishing year.

Once the U.S. ABC is divided, sub-annual catch limits (sub-ACLs) are set by reducing the amount of the ABC distributed to each component of the fishery to account for management uncertainty. Management uncertainty is the likelihood that management measures will result in a level of catch greater than expected. For each stock and fishery component, management uncertainty is estimated using the following criteria: Enforceability and precision of management measures, adequacy of catch monitoring, latent effort, and catch of groundfish in non-groundfish fisheries. The total ACL is the sum of all of the sub-ACLs and ACL sub-components, and is the catch limit for a particular year after accounting for both scientific and management uncertainty. Landings and discards from all fisheries (commercial and recreational groundfish fisheries, state waters, and non-groundfish fisheries) are counted against the ACL for each stock. Tables 3 to 5 summarize the proposed catch limits for fishing years 2017, 2018, and 2019.

Sector and Common Pool Allocations

For stocks allocated to sectors, the commercial groundfish sub-ACL is further divided into the non-sector (common pool) sub-ACL and the sector sub-ACL, based on the total vessel enrollment in sectors and the cumulative Potential Sector Contributions (PSCs) associated with those sectors. The sector and common pool sub-ACLs proposed in this action are based on fishing year 2017 PSCs and finalized fishing year 2017 sector rosters. Sector specific allocations for each stock can be found in this rule in section “8. Sector Measures for Fishing Year 2017.”

Common Pool Total Allowable Catches

The common pool sub-ACL for each stock (except for SNE/MA winter flounder, northern windowpane flounder, southern windowpane flounder, ocean pout, Atlantic wolffish, and Atlantic halibut) is further divided into trimester total allowable catches (TACs). The distribution of the common pool sub-ACLs into trimesters was adopted in Amendment 16 to the FMP. Once we project that 90 percent of the trimester TAC is caught for a stock, the trimester TAC area for that stock is closed for the remainder of the trimester to all common pool vessels fishing with gear capable of catching the pertinent stock. Any uncaught portion of the TAC in Trimester 1 or Trimester 2 will be carried forward to the next trimester. Overages of the Trimester 1 or Trimester 2 TAC will be deducted from the Trimester 3 TAC. Any overages of the total common pool sub-ACL will be deducted from the following fishing year's common pool sub-ACL for that stock. Uncaught portions of the Trimester 3 TAC may not be carried over into the following fishing year. Table 6 summarizes the common pool trimester TACs proposed in this action.

Incidental catch TACs are also specified for certain stocks of concern (i.e., stocks that are overfished or subject to overfishing) for common pool vessels fishing in the special management programs (i.e., special access programs (SAPs) and the Regular B Days-at-Sea (DAS) Program), in order to limit the catch of these stocks under each program. Tables 7 through 9 summarize the proposed Incidental Catch TACs for each stock and the distribution of these TACs to each special management program.

Closed Area I Hook Gear Haddock Special Access Program

Overall fishing effort by both common pool and sector vessels in the Closed Area I Hook Gear Haddock SAP is controlled by an overall TAC for GB haddock, which is the target species for this SAP. The maximum amount of GB haddock that may be caught in any fishing year is based on the amount allocated to this SAP for the 2004 fishing year (1,130 mt), and adjusted according to the growth or decline of the western GB haddock biomass in relationship to its size in 2004. Based on this formula, the Council's proposed GB Haddock TAC for this SAP is 10,709 mt for fishing year 2017. Once this overall TAC is caught, the Closed Area I Hook Gear Haddock SAP will be closed to all groundfish vessels for the remainder of the fishing year.

Default Limits for the 2019 Fishing Year

Framework 53 established a mechanism for setting default catch limits in the event a future management action is delayed. If final catch limits have not been implemented by the start of a fishing year on May 1, then default catch limits are set at 35 percent of the previous year's catch limit, effective until July 31 of that fishing year. If this value exceeds the Council's recommendation for the upcoming fishing year, the default catch limits will be reduced to an amount equal to the Council's recommendation for the upcoming fishing year. Because groundfish vessels are not able to fish if final catch limits have not been implemented, this measure was established to prevent disruption to the groundfish fishery. Additional description of the default catch limit mechanism is provided in the preamble to the Framework 53 final rule (80 FR 25110; May 1, 2015). The default catch limits for 2019 were presented in the Framework 55 Final Rule (81 FR 26412; May 2, 2016) and are not repeated here.

Table 3—Proposed Catch Limits for Fishing Year 2017 (mt, live weight). Catch Limits Are Proposed for GB Cod, GB Haddock, GB Yellowtail, and Witch Flounder. Sub-ACL Adjustments Are Proposed for the Midwater Trawl Fishery for GB Haddock, and for the Scallop Fishery for Northern Windowpane. All Other Limits Were Previously Adopted in Framework 55 on May 1, 2016
Stock | Total ACL | Total groundfish fishery | Sector | Common pool | Recreational fishery | Midwater trawl fishery | Scallop fishery | Small-mesh fisheries | State waters sub- component | Other sub- component
GB Cod | 637 | 531 | 521 | 10 |  |  |  |  | 20 | 86
GOM Cod | 473 | 437 | 271 | 9 | 157 |  |  |  | 27 | 10
GB Haddock | 54,568 | 52,620 | 52,253 | 367 |  | 801 |  |  | 574 | 574
GOM Haddock | 4,285 | 4,177 | 2,985 | 33 | 1,160 | 42 |  |  | 33 | 33
GB Yellowtail Flounder | 201 | 163 | 160 | 2 |  |  | 32 | 4 | 0 | 2.1
SNE/MA Yellowtail Flounder | 256 | 187 | 151 | 36 |  |  | 34 |  | 5 | 29
CC/GOM Yellowtail Flounder | 409 | 341 | 326 | 15 |  |  |  |  | 43 | 26
American Plaice | 1,272 | 1,218 | 1,196 | 23 |  |  |  |  | 27 | 27
Witch Flounder | 839 | 734 | 718 | 16 |  |  |  |  | 35 | 70
GB Winter Flounder | 683 | 620 | 615 | 5 |  |  |  |  | 0 | 63
GOM Winter Flounder | 776 | 639 | 607 | 32 |  |  |  |  | 122 | 16
SNE/MA Winter Flounder | 749 | 585 | 515 | 70 |  |  |  |  | 70 | 94
Redfish | 10,514 | 10,183 | 10,126 | 56 |  |  |  |  | 111 | 221
White Hake | 3,467 | 3,358 | 3,331 | 27 |  |  |  |  | 36 | 73
Pollock | 20,374 | 17,817 | 17,704 | 113 |  |  |  |  | 1,279 | 1,279
N. Windowpane Flounder | 170 | 129 | na | 129 |  |  | 36 |  | 2 | 4
S. Windowpane Flounder | 599 | 104 | na | 104 |  |  | 209 |  | 37 | 249
Ocean Pout | 155 | 130 | na | 130 |  |  |  |  | 2 | 23
Atlantic Halibut | 119 | 91 | na | 91 |  |  |  |  | 25 | 4
Atlantic Wolffish | 77 | 72 | na | 72 |  |  |  |  | 1 | 3

Table 4—Proposed Catch Limits for Fishing Year 2018 (mt, Live Weight). Catch Limits Are Proposed for GB Cod, GB Haddock, GB Yellowtail, and Witch Flounder. Sub-ACL Adjustments Are Proposed for the Midwater Trawl Fishery for GB Haddock, and for the Scallop Fishery for Northern Windowpane. All Other Limits Were Previously Adopted in Framework 55 on May 1, 2016
Stock | Total ACL | Total groundfish fishery | Sector | Common pool | Recreational fishery | Midwater trawl fishery | Scallop fishery | Small-mesh fisheries | State waters sub- component | Other sub- component
GB Cod | 1,197 | 997 | 978 | 18 |  |  |  |  | 37 | 162
GOM Cod | 473 | 437 | 271 | 9 | 157 |  |  |  | 27 | 10
GB Haddock | 74,058 | 71,413 | 70,916 | 497 |  | 1,087 |  |  | 779 | 779
GOM Haddock | 4,550 | 4,436 | 3,169 | 35 | 1,231 | 45 |  |  | 35 | 35
GB Yellowtail Flounder | 343 | 278 | 274 | 4 |  |  | 55 | 7 | 0 | 4
SNE/MA Yellowtail Flounder | 256 | 185 | 149 | 36 |  |  | 37 |  | 5 | 29
CC/GOM Yellowtail Flounder | 409 | 341 | 326 | 15 |  |  |  |  | 43 | 26
American Plaice | 1,337 | 1,280 | 1,257 | 24 |  |  |  |  | 28 | 28
Witch Flounder | 839 | 734 | 718 | 16 |  |  |  |  | 35 | 70
GB Winter Flounder | 683 | 620 | 615 | 5 |  |  |  |  | 0 | 63
GOM Winter Flounder | 776 | 639 | 607 | 32 |  |  |  |  | 122 | 16
SNE/MA Winter Flounder | 749 | 585 | 515 | 70 |  |  |  |  | 70 | 94
Redfish | 10,943 | 10,598 | 10,540 | 58 |  |  |  |  | 115 | 230
White Hake | 3,406 | 3,299 | 3,273 | 26 |  |  |  |  | 36 | 72
Pollock | 20,374 | 17,817 | 17,704 | 113 |  |  |  |  | 1,279 | 1,279
N. Windowpane Flounder | 170 | 129 |  | 129 |  |  | 36 |  | 2 | 4
S. Windowpane Flounder | 599 | 104 |  | 104 |  |  | 209 |  | 37 | 249
Ocean Pout | 155 | 130 |  | 130 |  |  |  |  | 2 | 23
Atlantic Halibut | 119 | 91 |  | 91 |  |  |  |  | 25 | 4
Atlantic Wolffish | 77 | 72 |  | 72 |  |  |  |  | 1 | 3

Table 5—Proposed Catch Limits for Fishing Year 2019
[mt, live weight]
Stock | Total ACL | Total groundfish fishery | Sector | Common pool | Recreational fishery | Midwater trawl fishery | Scallop fishery | Small-mesh fisheries | State waters sub-component | Other sub- component
Witch Flounder | 839 | 734 | 718 | 16 |  |  |  |  | 35 | 70

Table 6—Proposed Fishing Years 2017-2019 Common Pool Trimester TACs
[mt, live weight]
Stock | 2017: Trimester 1 | 2017: Trimester 2 | 2017: Trimester 3 | 2018: Trimester 1 | 2018: Trimester 2 | 2018: Trimester 3 | 2019: Trimester 1 | 2019: Trimester 2 | 2019: Trimester 3
GB Cod | 2.5 | 3.6 | 3.7 | 4.6 | 6.8 | 7.0
GOM Cod | 2.5 | 3.3 | 3.4 | 2.5 | 3.3 | 3.4
GB Haddock | 99.0 | 120.9 | 146.6 | 134.3 | 164.1 | 199.0
GOM Haddock | 8.8 | 8.5 | 15.4 | 9.4 | 9.0 | 16.3
GB Yellowtail Flounder | 0.5 | 0.7 | 1.3 | 0.8 | 1.3 | 2.2
SNE/MA Yellowtail Flounder | 7.6 | 13.4 | 15.2 | 7.5 | 13.2 | 14.9
CC/GOM Yellowtail Flounder | 5.2 | 5.2 | 4.5 | 5.2 | 5.2 | 4.5
American Plaice | 5.5 | 8.2 | 9.1 | 5.7 | 8.6 | 9.6
Witch Flounder | 4.4 | 5.1 | 6.9 | 4.4 | 5.1 | 6.9 | 4.4 | 5.1 | 6.9
GB Winter Flounder | 0.4 | 1.2 | 3.5 | 0.4 | 1.2 | 3.5
GOM Winter Flounder | 11.7 | 12.0 | 7.9 | 11.7 | 12.0 | 7.9
Redfish | 14.0 | 17.4 | 24.7 | 14.6 | 18.1 | 25.7
White Hake | 10.2 | 8.3 | 8.3 | 10.0 | 8.2 | 8.2
Pollock | 31.6 | 39.5 | 41.8 | 31.6 | 39.5 | 41.8
Note. An empty cell indicates that no catch limit has been set yet for these stocks. These catch limits will be set in a future management action.

Table 7—Proposed Common Pool Incidental Catch TACs for Fishing Years 2017-2019
[mt, live weight]
Stock | Percentage of common pool sub-ACL | 2017 | 2018 | 2019
GB Cod | 2 | 0.20 | 0.37 |
GOM Cod | 1 | 0.09 | 0.09 |
GB Yellowtail Flounder | 2 | 0.05 | 0.08 |
CC/GOM Yellowtail Flounder | 1 | 0.15 | 0.15 |
American Plaice | 5 | 1.14 | 1.19 |
Witch Flounder | 5 | 0.82 | 0.82 | 0.82
SNE/MA Winter Flounder | 1 | 0.70 | 0.70 |

Table 8—Percentage of Incidental Catch TACs Distributed to Each Special Management Program
Stock | Regular B DAS program | Closed area I hook gear haddock SAP | Eastern US/CA haddock SAP
GB Cod | 50 | 16 | 34
GOM Cod | 100 |  |
GB Yellowtail Flounder | 50 |  | 50
CC/GOM Yellowtail Flounder | 100 |  |
American Plaice | 100 |  |
Witch Flounder | 100 |  |
SNE/MA Winter Flounder | 100 |  |
White Hake | 100 |  |

Table 9—Proposed Fishing Years 2017-2019 Incidental Catch TACs for Each Special Management Program
[mt, live weight]
Stock | Regular B DAS program: 2017 | Regular B DAS program: 2018 | Regular B DAS program: 2019 | Closed area I hook gear Haddock SAP: 2017 | Closed area I hook gear Haddock SAP: 2018 | Closed area I hook gear Haddock SAP: 2019 | Eastern U.S./Canada Haddock SAP: 2017 | Eastern U.S./Canada Haddock SAP: 2018 | Eastern U.S./Canada Haddock SAP: 2019
GB Cod | 0.10 | 0.18 |  | 0.03 | 0.06 |  | 0.07 | 0.13 |
GOM Cod | 0.09 | 0.09 |  | n/a | n/a |  | n/a | n/a |
GB Yellowtail Flounder | 0.02 | 0.04 |  | n/a | n/a |  | 0.02 | 0.04 |
CC/GOM Yellowtail Flounder | 0.15 | 0.15 |  | n/a | n/a |  | n/a | n/a |
American Plaice | 1.14 | 1.19 |  | n/a | n/a |  | n/a | n/a |
Witch Flounder | 0.82 | 0.82 | 0.82 | n/a | n/a | n/a | n/a | n/a | n/a
SNE/MA Winter Flounder | 0.70 | 0.70 |  | n/a | n/a |  | n/a | n/a |

5. Allocation of Northern Windowpane Flounder for the Scallop Fishery

Scallop fishery catch of northern windowpane flounder is currently accounted for under the other sub-component, and has ranged between 6 and 76 percent of total northern windowpane flounder catch between 2010 and 2015. As noted above, under section “4. Catch Limits,” the U.S. ABC for each stock is reduced by an estimate of catch expected from state waters and the “other” sub-component (i.e., non-groundfish fisheries). These sub-components are not subject to specific catch controls by the FMP. As a result, the state waters and other sub-components are not allocations, and these components of the fishery are not subject to accountability measures if the catch limits are exceeded.

For northern windowpane flounder, 33 to 49 percent of the U.S. ABC has been set aside for the other sub-component each year since 2010. Scallop fishery catch accounts for more than 90 percent of other sub-component catch in each of those years, and was greater than two times the other subcomponent value in 2012, 2014, and 2015. This means that outside of the groundfish fishery, the scallop fishery is the major contributor to northern windowpane flounder catches. Further, catch has been over the total ACL for the northern windowpane fishery in every year since 2010. In 2012 and 2015, scallop fishery catch, as part of the other sub-component, directly contributed to the ACL overage.

Because the scallop fishery does not currently have an allocation for northern windowpane flounder, the groundfish fishery is held accountable if high levels of catch in the scallop fishery contribute to an ACL overage. When triggered, the northern windowpane flounder AMs require groundfish trawl vessel to use selective gear that reduces flatfish bycatch in certain areas. This restricts the ability of the groundfish fishery to target and catch marketable species, mainly other flatfish such as winter flounder, and result in adverse economic impacts to the groundfish fleet fishing on Georges Bank when the gear-restricted areas are in place.

This action proposes to establish a scallop fishery sub-ACL for northern windowpane flounder equal to 21 percent of the northern windowpane flounder ABC. This allocation is based on the 90th percentile of scallop fishery catches (as a percent of the total catch) for calendar years 2005 to 2014. This approach is similar to the approach used to set the southern windowpane flounder sub-ACL for the scallop fishery in Framework 48 (78 FR 26118, May 2, 2013). The Council chose a fixed-percentage allocation rather than an allocation based on projected catch because projected catch can fluctuate greatly from year to year. The scallop fishery's sub-ACL would be calculated by reducing the portion of the ABC allocated to the scallop fishery to account for management uncertainty. The current management uncertainty buffer for zero-possession stocks is 7 percent. The management uncertainty buffer can be adjusted each time the groundfish specifications are set.

Creating a sub-ACL and, therefore, an AM for the scallop fishery is intended to create accountability for those fisheries responsible for a substantial share of catch or an overage if one occurs. This measure also ensures that catch from one fishery does not negatively affect another fishery. Thus, a sub-ACL for the scallop fishery would help prevent overfishing of northern windowpane flounder, as required by National Standard 1 and Section 303(a)(1) of the Magnuson-Stevens Act, and create an incentive to minimize bycatch of this stock, consistent with National Standard 9.

This action does not propose scallop fishery AMs for the northern windowpane flounder sub-ACL. Consistent with other scallop allocations, the Council would develop and adopt scallop fishery AMs for this sub-ACL during 2017. We would work with the Council to develop and implement the AMs in time for fishing year 2018. This means that if there is an overage in the 2017 scallop fishery northern windowpane flounder sub-ACL, that overage would be subject to the AM. Once the scallop fishery AM for northern windowpane flounder is implemented, the groundfish fishery would only be subject to an AM if the groundfish fishery exceeds its sub-ACL and the overall ACL is also exceeded. The proposed 2017 sub-ACL is lower than recent scallop fishery catches of northern windowpane flounder. As a result, this action also proposes an AM trigger that would provide additional flexibility that would hold the scallop fishery accountable but ensure that optimum yield is still achieved. The trigger for the scallop fishery northern windowpane flounder AM is discussed below in section “6. Revised Threshold for Scallop Accountability Measures.”

6. Revised Threshold for Scallop Accountability Measures

The scallop fishery has sub-ACLs for GB yellowtail flounder, SNE/MA yellowtail flounder, and southern windowpane flounder. Framework 56 would also implement a scallop fishery sub-ACL for northern windowpane flounder (see section “5. Allocation of Northern Windowpane Flounder for the Scallop Fishery). If the scallop fishery exceeds its sub-ACL for these stocks, it is subject to AMs that, in general, restrict the scallop fishery in seasons and areas with high encounter rates for these stocks. Framework 47 (77 FR 26104, May 2, 2012) set a policy for triggering a scallop fishery AMs for groundfish stocks. Currently, the scallop fishery is subject to AMs for these stocks if either: (1) The scallop fishery exceeds its sub-ACL and the total ACL is exceeded; or (2) the scallop fishery exceeds its sub-ACL by 50 percent or more. This policy was implemented to provide flexibility for the scallop fishery.

Framework 56 proposes that the AMs for GB yellowtail flounder and northern windowpane flounder would only be implemented if scallop fishery catch exceeds its sub-ACL by any amount and the total ACL is also exceeded. The AM trigger would remain unchanged for SNE/MA yellowtail flounder and southern windowpane flounder. The adjustment for GB yellowtail flounder and northern windowpane flounder is intended to provide additional flexibility, beyond the existing scallop AM implementation policy, for the scallop fishery to operate in years when the overall and scallop fishery allocations for these stocks are low. The scallop fishery is expected to operate primarily on Georges Bank in 2017 and 2018, based on scallop rotational area management. The revised thresholds would only be effective for fishing years 2017 and 2018, after which the Council would evaluate the provision to ensure the threshold has effectively constrained both scallop fishery catch and total mortality.

7. Increase to Georges Bank Haddock Catch Limit for the Midwater Trawl Fishery

Throughout 2016, the Council considered adjustments to the GB haddock catch cap and associated AM to promote long-term sustainable management the GB haddock stock and groundfish fishery and provide incentives for the midwater Atlantic herring fishery to minimize bycatch for this stock to the extent practicable, while still allowing the herring fishery to achieve optimum yield. The Council's Herring Committee considered a range of alternatives to adjust the accountability measure for the GB haddock catch cap in Framework Adjustment 5 to the Herring FMP. Herring Framework 5 analyzed alternatives to adjust GB haddock AM area, to allocate the existing cap seasonally, and to use state portside sampling data in addition to NEFOP observer data to monitor the cap. At its January 2017 meeting, the Council ultimately voted not to adopt any of the AM adjustment approaches in Herring Framework 5, and ceased developing that action. This means that the existing AMs for the GB haddock catch cap remain in effect. This includes the inseason closure of the GB haddock AM area when the haddock catch cap is reached, and pound-for-pound payback for any overages.

The Groundfish Committee simultaneously considered alternatives to adjust the GB haddock catch cap in Framework 56, and took final action to recommend increasing Atlantic herring midwater trawl fishery's GB haddock catch cap from 1 percent of the U.S. ABC to 1.5 percent at its November 2016 meeting. The Council's decision to increase the GB haddock catch cap in Framework 56 factored into its decision to cease development of Herring Framework 5. The Council's analysis notes that this option better meets the goals and objectives of the Atlantic herring management program. In particular, this option meets the goal to achieve, on a continuing basis, optimum yield, and the objectives to achieve full utilization from the catch of herring, and to promote the utilization of the resource in a manner which maximizes social and economic benefits to the nation, while taking into account the protection of marine ecosystems including minimizing bycatch to the extent practicable.

As in the past, the herring fishery's midwater trawl sub-ACL would be calculated by reducing the portion of the ABC allocated to the herring midwater trawl fishery to account for management uncertainty. The current management uncertainty buffer is 7 percent.

The Council also proposes to establish a process for reviewing the GB haddock midwater trawl sub-ACL. Following an assessment of the entire GB haddock stock, the Groundfish Plan Development Team (PDT) would review groundfish fishery catch performance, utilization, status of the GB haddock resource, recruitment, incoming year-class strength, and the variability in the GB haddock incidental catch estimates for the Atlantic herring midwater trawl fishery. Based on this review, the PDT would determine whether changes to the GB haddock midwater trawl sub-ACL were necessary, and recommend to the Groundfish Committee and Council an appropriate sub-ACL equal to 1 to 2 percent of the GB haddock U.S. ABC.

8. Sector Measures for Fishing Year 2017

This action also proposes updated annual catch entitlements for 19 sectors for the 2017 fishing year based on the new catch limits included in Framework 56 and the finalized 2017 sector rosters. Sector operation plan approval, as well as evaluation of sector exemptions, is covered in the interim final rule that approved 2017 and 2018 sector operations plans (82 FR 19618; April 28, 2017).

Sector Allocations

Regional Administrator approval is required for sectors to receive annual catch entitlements (ACEs) for specific groundfish stocks. The ACE allocations are a portion of a stock's ACL available to the sector based on the collective fishing history of the sector's members. Sectors are allocated ACE for groundfish stocks for which its members have landings history, with the exception of Atlantic halibut, ocean pout, windowpane flounder, and Atlantic wolffish. These stocks are not allocated to sectors.

The sector allocations proposed in this rule are based on the fishing year 2017 specifications described above under “3. Catch Limits.” We calculate the sector's allocation for each stock by summing its members' potential sector contributions (PSC) for a stock, as shown in Table 10. The information presented in Table 10 is the total percentage of each commercial sub-ACL each sector would receive for fishing year 2017, based on finalized fishing year 2017 rosters. Tables 11 and 12 show the allocations each sector would receive for fishing year 2017, based on finalized fishing year 2017 rosters. At the start of the fishing year, after sector enrollment is finalized, we provide the final allocations, to the nearest pound, to the individual sectors, and we use those final allocations to monitor sector catch. While the common pool does not receive a specific allocation, the common pool sub-ACLs have been included in each of these tables for comparison.

We do not assign an individual permit separate PSCs for the Eastern GB cod or Eastern GB haddock; instead, we assign a permit a PSC for the GB cod stock and GB haddock stock. Each sector's GB cod and GB haddock allocations are then divided into an Eastern ACE and a Western ACE, based on each sector's percentage of the GB cod and GB haddock ACLs. For example, if a sector is allocated 4 percent of the GB cod ACL and 6 percent of the GB haddock ACL, the sector is allocated 4 percent of the commercial Eastern U.S./Canada Area GB cod TAC and 6 percent of the commercial Eastern U.S./Canada Area GB haddock TAC as its Eastern GB cod and haddock ACEs. These amounts are then subtracted from the sector's overall GB cod and haddock allocations to determine its Western GB cod and haddock ACEs. Framework 51 implemented a mechanism that allows sectors to “convert” their Eastern GB haddock allocation into Western GB haddock allocation (79 FR 22421; April 22, 2014) and fish that converted ACE in Western GB. Framework 55 implemented a similar measure for GB cod (81 FR 26412; May 2, 2016).

We will allow sectors to transfer fishing year 2016 ACE for 2 weeks of the fishing year following the completion of year-end catch accounting to reduce or eliminate any fishing year 2016 overages. If necessary, we will reduce any sector's fishing year 2017 allocation to account for a remaining overage in fishing year 2016.

BILLING CODE 3510-22-P

BILLING CODE 3510-22-C

Sector Carryover From Fishing Year 2016 to Fishing Year 2017

Sectors can carry over up to 10 percent of the unused initial allocation for each stock into the next fishing year. However, the maximum available carryover may be reduced if up to 10 percent of the unused sector sub-ACL, plus the total ACL for the upcoming fishing year, exceeds the total ABC. Based on the catch limits proposed in this action, or previously established in Framework 55, we evaluated whether the total potential catch in the 2017 fishing year would exceed the proposed or established 2017 ABC if sectors carried over the maximum 10 percent of unused allocation from 2016 to 2017 (Table 13). Under this scenario, total potential catch would exceed the 2017 ABC for all stocks except for Gulf of Maine (GOM) haddock and witch flounder. As a result, we expect we will need to adjust the maximum amount of unused allocation that a sector can carry forward from 2016 to 2017 (down from 10 percent). It is possible that not all sectors will have 10 percent of unused allocation at the end of fishing year 2016. We will make final adjustments to the maximum carryover possible for each sector based on the final 2016 catch for the sectors, each sector's total unused allocation, and proportional to the cumulative PSCs of vessels/permits participating in the sector. We will announce this adjustment as soon as possible.

Based on the catch limits proposed in this rule, the de minimis carryover amount for fishing year 2017 would be set at the default one percent of the 2017 overall sector sub-ACL. The overall de minimis amount will be applied to each sector based on the cumulative PSCs of the vessel/permits participating in the sector. If the overall ACL for any allocated stock is exceeded for fishing year 2017, the allowed carryover harvested by a sector minus its specified de minimis amount, will be counted against its allocation to determine whether an overage, subject to an AM, occurred.

Table 13—Evaluation of Maximum Carryover Allowed From the 2016 to 2017 Fishing Years
[mt, live weight]
Stock | 2016 sector sub-ACL | Potential max carryover (10% of 2016 sector sub-ACL) | 2017 total ACL | Total potential catch in FY 17 (FY 16 sector carryover + FY 17 ACL) | 2017 U.S. ABC | Results | By how much?
| (B) | (C) = (B) * 10% | (D) | (E) = (C) + (D) | (F) | (G) = (E) > (F)? | (H) = (E)−(F)
GB Cod | 597 | 60 | 637 | 697 | 665 | Higher than ABC | 32
GOM cod | 271 | 27 | 473 | 501 | 500 | Higher than ABC | 1
GB Haddock | 51,327 | 5,133 | 54,568 | 59,701 | 57,398 | Higher than ABC | 2,303
GOM Haddock | 2,390 | 239 | 4,285 | 4,524 | 4,534 | Lower than ABC | −10
SNE/MA Yellowtail Flounder | 157 | 16 | 256 | 272 | 267 | Higher than ABC | 5
CC/GOM Yellowtail Flounder | 326 | 33 | 409 | 442 | 427 | Higher than ABC | 15
American Plaice | 1,163 | 116 | 1,272 | 1,388 | 1,336 | Higher than ABC | 52
Witch Flounder | 362 | 36 | 839 | 876 | 878 | Lower than ABC | −2
GB Winter Flounder | 585 | 59 | 683 | 741 | 702 | Higher than ABC | 39
GOM Winter Flounder | 606 | 61 | 776 | 837 | 810 | Higher than ABC | 27
SNE/MA Winter Flounder | 523 | 52 | 749 | 801 | 780 | Higher than ABC | 21
Redfish | 9,474 | 947 | 10,514 | 11,461 | 11,050 | Higher than ABC | 411
White Hake | 3,433 | 343 | 3,467 | 3,811 | 3,686 | Higher than ABC | 125
Pollock | 17,704 | 1,770 | 20,374 | 22,145 | 21,312 | Higher than ABC | 833
Note: Carryover of GB yellowtail flounder is not allowed because this stock is jointly managed with Canada.

9. Fishing Year 2017 Annual Measures Under Regional Administrator Authority

The FMP gives us authority to implement certain types of management measures for the common pool fishery, the U.S./Canada Management Area, and Special Management Programs on an annual basis, or as needed. This proposed rule includes a description of these management measures that are being considered for fishing year 2017 in order to provide an opportunity for the public to comment on whether the proposed measures are appropriate. These measures are not part of Framework 56, and were not specifically proposed by the Council. We are proposing them in conjunction with Framework 56 measures in this action for efficiency purposes, and because they relate to the catch limits proposed in Framework 56.

Witch Flounder Common Pool Trip Limits

As discussed above in section “4. Catch Limits,” this action proposes to increase the witch flounder ABC for fishing year 2017. We propose to adjust the common pool witch flounder trip limit in response to this increase, after considering changes to the common pool sub-ACLs and sector rosters from 2016 to 2017, proposed trimester TACs for 2017, catch rates of witch flounder during 2016, and other available information. Table 14 summarizes the current common pool trip limit for witch flounder for fishing year 2017 implemented on May 1, 2017 (82 FR 20285; May 1, 2017), and the proposed trip limit. The common pool trip limits for all other groundfish stocks remains the same as those implemented on May 1, 2017.

Table 14—Proposed Common Pool Trip Limits for Fishing Year 2017
Stock | Current 2017 trip limit | Proposed 2017 trip limit
Witch Flounder | 150 lb (68 kg)/trip | 400 lb (181 kg)/trip.

Closed Area II Yellowtail Flounder/Haddock Special Access Program

This action proposes to allocate zero trips for common pool vessels to target yellowtail flounder within the Closed Area II Yellowtail Flounder/Haddock SAP for fishing year 2017. Vessels could still fish in this SAP in 2017 to target haddock, but must fish with a haddock separator trawl, a Ruhle trawl, or hook gear. Vessels would not be allowed to fish in this SAP using flounder trawl nets. This SAP is open from August 1, 2017, through January 31, 2018.

We have the authority to determine the allocation of the total number of trips into the Closed Area II Yellowtail Flounder/Haddock SAP based on several criteria, including the GB yellowtail flounder catch limit and the amount of GB yellowtail flounder caught outside of the SAP. The FMP specifies that no trips should be allocated to the Closed Area II Yellowtail Flounder/Haddock SAP if the available GB yellowtail flounder catch is insufficient to support at least 150 trips with a 15,000-lb (6,804-kg) trip limit (or 2,250,000 lb (1,020,600 kg)). This calculation accounts for the projected catch from the area outside the SAP. Based on the proposed fishing year 2017 GB yellowtail flounder groundfish sub-ACL of 363,763 lb (165,000 kg), there is insufficient GB yellowtail flounder to allocate any trips to the SAP, even if the projected catch from outside the SAP area is zero. Further, given the low GB yellowtail flounder catch limit, catch rates outside of this SAP are more than adequate to fully harvest the 2017 GB yellowtail flounder allocation.

10. Fishing Year 2017 Northern and Southern Windowpane Flounder Accountability Measures

In fishing year 2015, the total ACLs for both northern and southern windowpane flounder were exceeded by more than 20 percent (Table 16). For both stocks, the overage was greater than the management uncertainty buffers, which means that catch exceeded the ABCs. This section describes the AMs for both windowpane flounder stocks that would go into effect upon publication of the Framework 56 final rule, and until April 30, 2018. Because Framework 56 proposes measures to address the operational issue that contributed to the northern windowpane flounder ACL overage, we are requesting specific comment on this AM. At the request of the NEFMC and the Mid-Atlantic Fishery Management Council (MAFMC), we are also requesting comment on the southern windowpane flounder AM for future actions.

The AM areas for either stock are triggered if the catch limit for a given year is exceeded by more than 5 percent. The AM areas are implemented at the start of the next fishing year after the final catch information is available, meaning the overage in 2015 triggers an AM for 2017. If windowpane catch is between 5 and 20 percent over the limit for either stock, the Small AM Area restriction for the stock is triggered (Figure 1). If windowpane catch is more than 20 percent over the limit for either stock, the Large AM Area restriction is triggered. When the AM areas are effective, certain vessels are required to use approved selective gear types that limit flatfish catch. Sectors cannot request an exemption from these AMs. The AMs would remain in place until April 30, 2018, unless modified through a future action to account for updated information as specified in the regulations. As long as additional overages do not occur, the AMs would be removed at the start of fishing year 2018, beginning on May 1, 2018.

An overview of the windowpane AM is available here: http://www.nero.noaa.gov/sfd/sfdmulti.html.

Table 16—Fishing Year 2015 Windowpane Flounder ACLs and Catch
Stock | OFL (mt) | ABC (mt) | Total ACL (mt) | Catch (mt and percent of ACL or sub-ACL): Total | Catch (mt and percent of ACL or sub-ACL): Groundfish fishery (%) | Catch (mt and percent of ACL or sub-ACL): Scallop fishery (%) | Catch (mt and percent of ACL or sub-ACL): State waters (%) | Catch (mt and percent of ACL or sub-ACL): Other sub-component (%)
Northern windowpane flounder | 243 | 151 | 144 | 196 136% | 75 | (*) | 84 | 275
Southern windowpane flounder | 833 | 548 | 527 | 643 122% | 135 | 115 | 71 | 138
* Scallop catch of northern windowpane flounder is counted toward the other sub-component.

Northern Windowpane Flounder

Fishing year 2015 catch exceeded the total ACL for northern windowpane flounder by 36 percent. Unlike previous years, the groundfish fishery did not exceed its sub-ACL for this stock in 2015. Catch from the other sub-component, primarily the scallop fishery, contributed to the overage. Because no other fishery had an allocation of this stock in 2015, the groundfish fishery would be held responsible for the overage. Catch exceeded the ACL by more than 20 percent, and therefore the large Northern windowpane flounder AM area would take effect for all groundfish trawl vessels upon publication of the Framework 56 final rule (Figure 1). As described in section “5. Allocation of Northern Windowpane Flounder for the Scallop Fishery,” Framework 56 also proposes to establish an allocation for the scallop fishery to address the operational issue that contributed to the 2015 ACL overage.

Southern Windowpane Flounder

Total 2015 catch exceeded the total ACL for southern windowpane flounder by more than 20 percent. The groundfish fishery, the scallop fishery, and the other non-groundfish fisheries all contributed to the overage. The New England and Mid-Atlantic Fishery Management Councils requested that we consider removing or modifying the southern windowpane accountability measures for fishing year 2017. In support of their requests, the Councils pointed to the status of the southern windowpane flounder stock, as well as the potential economic impacts of the large AM on the groundfish, scallop, and large-mesh non-groundfish fisheries.

The 2015 assessment update for southern windowpane flounder stock found that the stock is not overfished, and that overfishing is not occurring. The stock was declared fully rebuilt in 2010, and overfishing has not occurred for this stock since 2006, despite catch in excess of the ACL in all years from 2010-2015. The ABC was also exceeded in 2010, 2011, 2012, and 2013. In addition, survey indices suggest that stock size has been relatively stable, and increasing since hitting a time series low in the mid-1990s, and that stock size increased marginally between 2014 and 2016. The final rule for the 2009 revisions to the National Standard 1 Guidelines (74 FR 3178; January 16, 2009) discusses that, if available information indicates that a stock was above its BMSY level and continued to grow, even though the ACL was exceeded for the year, that could indicate that the overage did not have any adverse biological consequences that needed to be addressed through the AM. In line with this concept, the current southern windowpane flounder stock status, coupled with recent increases in stock size, suggest that the 2015 overage has not resulted in negative biological consequences for this stock.

The New England Council conducted an analysis of calendar year 2015 revenue for yellowtail flounder, winter flounder, summer flounder and scup within the large AM areas. This analysis provides additional details of the extent of the economic impacts on non-groundfish fisheries. In 2015, within the large AM closure area, large-mesh bottom-trawl fisheries for yellowtail flounder, winter flounder, summer flounder, and scup revenues were $2 million. Implementing the large AM area would result in substantial loss of revenue for these fisheries, as well as the groundfish and scallop fisheries.

The regulations provide a formulaic trigger for both windowpane AMs. If the ACL for either windowpane stock is exceeded by more than 20 percent, we are required to implement the large AM area, regardless of current stock status. AMs are management controls to prevent ACLs from being exceeded and to correct or mitigate ACL overages if they occur. AMs should address and minimize the frequency and magnitude of overages and correct the problem that caused the overage in as short a time as possible. We are requesting public comment on implementing the large AM area for southern windowpane in fishing year 2017 in comparison to the small AM area. When the Council developed the southern windowpane AM areas in Framework 47 to the Northeast Multispecies FMP (77 FR 26104; May 2, 2012), it selected boundaries for the areas that were potentially larger than would be expected to achieve the desired catch reductions due to uncertainty in the analysis. Framework 47 also states that the boundaries may be adjusted in the future as experience is gained on the effectiveness of the AM system. We are seeking comments on how and to what degree implementing the small AM area could alleviate some of the anticipated economic impacts of the large AM area, while ensuring it would be consistent with the objectives of the New England and Mid-Atlantic Council fishery management plans. We are also seeking comments on potential future adjustments to the AM that would balance achieving optimum yield and taking into account the needs of fishing communities, without compromising the purpose of the AMs and the conservation objectives to prevent overfishing of the southern windowpane flounder stock.

Because the ACL was exceeded by more than 20 percent, the large AM area would take effect upon implementation of the Framework 56 final rule, for all groundfish trawl vessels, and for non-groundfish trawl vessels fishing with a codend mesh size of 5 inches (12 cm) or greater (Figure 1). The scallop fishery AM restricts the use of dredge gear in the area west of 71° W. longitude, excluding the Mid-Atlantic scallop access areas, for the month of February 2018.

Review of Framework 52 Provisions for Windowpane Flounder AMs

Framework 52 (80 FR 2021; January 15, 2015) implemented a provision that allows us to reduce the size of either windowpane AM area restriction for groundfish vessels if the stock is rebuilt and the biomass criterion is met. The biomass criterion is defined as the most recent 3-year average of catch per tow from the fall surveys multiplied by 75 percent of FMSY (fishing mortality at maximum sustainable yield). Northern windowpane flounder is not rebuilt, and thus, does not meet the first criterion for this provision. However, because southern windowpane flounder is rebuilt, we reviewed the biomass criterion for this stock. Based on the 2014-2016 fall surveys, the most recent 3-year average catch per tow is 0.33 kg, and when applied to 75 percent FMSY (1.52), results in 500 mt, which is less than the 2015 catch (643 mt). As a result, the biomass criterion is not met, and the size of the AM cannot be reduced for southern windowpane flounder at this time based on this criterion. We note that Framework 52 only intended for this provision to reduce the size of the southern windowpane AM for groundfish vessels, and did not intend to reduce the size of the AM for non-groundfish trawl vessels.

11. Regulatory Corrections Under Regional Administrator Authority

We are proposing minor changes to the regulatory text to simplify the regulations, and clarify regulatory intent.

This proposed rule clarifies the regulatory text regarding net obstruction or constriction in § 648.80 to improve enforceability.

This proposed rule would remove § 648.85(d), which describes the now obsolete haddock incidental catch allowance for some Atlantic herring vessels as a special access program within the Northeast multispecies fishery. The haddock incidental catch allowances were codified in the regulations at § 648.90(a)(4)(iii)(D) as midwater trawl sub-ACLs for the GOM and GB haddock stocks when we implemented ACLs and AMs in Amendment 16. This proposed rule would remove the references to § 648.85(d) throughout the regulations, and replace them with the reference to the haddock mid-water trawl sub-ACLs.

This proposed rule clarifies the regulatory text that describes the windowpane flounder and ocean pout accountability measures in § 648.90.

Classification

Pursuant to section 304(b)(1)(A) of the Magnuson-Stevens Act, the NMFS Assistant Administrator has made a preliminary determination that this proposed rule is consistent with Framework 56, other provisions of the Magnuson-Stevens Act, and other applicable law. In making the final determination, we will consider the data, views, and comments received during the public comment period.

This proposed rule has been determined to be not significant for purposes of Executive Order (E.O.) 12866.

This proposed rule does not contain policies with Federalism or “takings” implications as those terms are defined in E.O. 13132 and E.O. 12630, respectively.

The Chief Counsel for Regulation of the Department of Commerce certified to the Chief Counsel for Advocacy of the Small Business Administration that this proposed rule, if adopted, would not have a significant economic impact on a substantial number of small entities.

Framework Adjustment 56 proposes to revise groundfish catch limits for four of the 20 groundfish stocks for fishing years 2017-2019 (May 1, 2017, through April 30, 2020), adjust several allocations and accountability measures (AMs) for groundfish catch in non-groundfish fisheries, and make other administrative changes to groundfish management measures. Our analysis of the likely economic impacts of Framework 56 measures predicts that the proposed action will have positive impacts on fishing vessels, purchasers of seafood products, recreational anglers, and operators of party/charter businesses.

Description of Regulated Entities

For the purposes of our Regulatory Flexibility Act analysis, the proposed action is considered to regulate ownership entities that are potentially affected by the action. Ownership entities are identified on June 1st of each year based on the list of any type of northeast Federal fishing permit for the most recent complete calendar year. For this action, ownership data was drawn from permits issued for fisheries in 2015. As of the beginning of fishing year 2015 (May 1, 2015), NOAA's National Marine Fisheries Service (NMFS) issued 3,079 permits that this action potentially affects.

Ownership data collected from 2015 permit holders indicates that there are 1,505 distinct business entities that hold at least one permit that could be directly regulated by the proposed action. Of the 3,079 permits held by these business entities, there were 919 limited access groundfish permits, 268 recreational handgear permits, 726 limited access and general category Atlantic sea scallop permits, 798 small-mesh multispecies permits, and 368 Atlantic herring permits. There were 2,037 vessels associated with these permits. Each vessel may be individually owned or part of a larger corporate ownership structure.

For RFA purposes only, NMFS established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. The determination as to whether the entity is large or small is based on the average annual revenue for the 3 years from 2013 through 2015.

Ownership data for calendar year 2015 permits contains gross sales associated with the permits for calendar years 2013 through 2015 that were issued to the 1,505 business entities. Of these 1,505 entities, 202 are inactive and do not have revenues. Using NMFS size standards, 1,495 of the 1,505 entities are categorized as small. The remaining 10 are categorized as large entities.

Description of Proposed Framework 56 Measures

Annual Catch Limits

Framework Adjustment 56 would update 2017-2019 catch limits for witch flounder and 2017 catch limits for the three U.S./Canada stocks (Eastern Georges Bank (GB) cod, Eastern GB haddock, and GB yellowtail flounder). Compared to 2016, Framework 56 would increase the catch limits for Eastern GB cod (by 6 percent), Eastern GB haddock (by 94 percent), and witch flounder (by 91 percent), and would decrease the catch limit for GB yellowtail flounder (by 23 percent). The proposed action allows additional fishing opportunities for the commercial components of the groundfish fishery by extending fishing in the Eastern U.S./Canada area. If no action is taken, the Eastern U.S./Canada area would only be open to fishing for three months (May through July), and the proposed action would keep this area open year-round. The increases in the catch limits for Eastern GB cod, Eastern GB haddock, and witch flounder, as well as the fact that the proposed action would keep the Eastern U.S./Canada area for the full fishing year, more than offset the decrease in the catch limit for GB yellowtail flounder.

Allocation for Northern Windowpane Flounder for the Scallop Fishery

The proposed action would establish a northern windowpane flounder allocation for the scallop fishery equal to 21 percent of the northern windowpane flounder catch limit. The allocation would cap the incidental catch of northern windowpane flounder in the scallop fishery. Until an AM is developed for the scallop fishery, the 21-percent northern windowpane flounder allocation would have little to no impact on the scallop fishery.

Revised Threshold for Scallop Accountability Measures

Framework 56 proposes to temporarily change the threshold for implementing scallop fishery AMs for its allocations for GB yellowtail flounder and northern windowpane flounder. Currently, the scallop fishery is subject to AMs for these stocks if either: (1) The scallop fishery exceeds its sub-ACL and the total ACL is exceeded; or (2) the scallop fishery exceeds its sub-ACL by 50 percent or more. The proposed action would only implement scallop fishery AMs for GB yellowtail flounder and northern windowpane flounder if the scallop fishery exceeds its sub-ACL and the total ACL is exceeded in 2017 or 2018. This adjustment provides flexibility for the scallop fishery to operate in years when its allocations for GB yellowtail flounder and northern windowpane flounder are low. In the case of northern windowpane flounder, this adjustment could help offset any potential negative impacts that may result from the AM, once it is developed.

A change in availability due to improved stock conditions could increase the likelihood that groundfish fishery participants would target GB yellowtail flounder. In order to avoid ACL overages, the groundfish fishery may need to limit efforts to target GB yellowtail flounder in 2017 or 2018 if scallop fishery catch is high. However, in recent years, GB yellowtail flounder catch in the groundfish fishery has been low, and less than 40 percent of the groundfish fishery sub-ACL was caught in fishing years 2013 through 2015. Groundfish fishery catch is not expected to increase in 2017, and as a result, this action would not have negative economic impacts for the groundfish fishery.

Increase to GB Haddock Catch Limit for the Midwater Trawl Fishery

Framework 56 proposes to increase the Atlantic herring midwater trawl fishery's haddock catch cap for the GB haddock stock from 1 percent of the U.S. ABC to 1.5 percent. This increase is expected to provide additional opportunity to achieve optimum yield in the herring fishery, while still minimizing GB haddock catch in midwater trawl gear. The proposed increased allocation should provide better opportunity for the Atlantic herring fishery to avoid triggering the AM while taking into account GB haddock conditions and minimizing bycatch to the extent practicable. The AM reduces herring possession to 2,000 lb throughout most of the GB stock area until the end of the groundfish fishing year.

Overall, the measures proposed in Framework 56 are expected to have a positive economic effect on small entities. The changes to annual catch limits allow for nine additional months of fishing in the Eastern U.S./Canada fishing area, and generate additional groundfish gross revenues. This action would provide groundfish, scallop, and herring fishermen with additional fishing opportunities, enhance their operational flexibility, and increase profits.

This action is not expected to have a significant or substantial effect on small entities. The effects on the regulated small entities identified in this analysis are expected to be positive. Under the proposed action, small entities would not be placed at a competitive disadvantage relative to large entities, and the regulations would not reduce the profits for any small entities. As a result, an initial regulatory flexibility analysis is not required, and none has been prepared.

List of Subjects in 50 CFR Part 648

Fisheries, Fishing, Recordkeeping and reporting requirements.

Dated: June 19, 2017.
Samuel D. Rauch, III,
Deputy Assistant Administrator for Regulatory Programs, National Marine Fisheries Service.

For the reasons stated in the preamble, 50 CFR part 648 is proposed to be amended as follows:

PART 648—FISHERIES OF THE NORTHEASTERN UNITED STATES

1. The authority citation for part 648 continues to read as follows:

Authority: 16 U.S.C. 1801 et seq.

2. In § 648.80, revise paragraphs (g)(1) and (g)(2)(i) to read as follows:

§ 648.80 NE Multispecies regulated mesh areas and restrictions on gear and methods of fishing.

* * * * *

(g) Restrictions on gear and methods of fishing—(1) Net obstruction or constriction. Except as provided in paragraph (g)(5) of this section, a fishing vessel subject to minimum mesh size restrictions shall not use, or attach any device or material, including, but not limited to, nets, net strengtheners, ropes, lines, or chafing gear, on the top of a trawl net, except that one splitting strap and one bull rope (if present), consisting of line and rope no more than 3 in (7.6 cm) in diameter, may be used if such splitting strap and/or bull rope does not constrict, in any manner, the top of the trawl net. “The top of the trawl net” means the 50 percent of the net that (in a hypothetical situation) would not be in contact with the ocean bottom during a tow if the net were laid flat on the ocean floor. For the purpose of this paragraph, head ropes are not considered part of the top of the trawl net.

(2) Net obstruction or constriction. (i) Except as provided in paragraph (g)(5) of this section, a fishing vessel may not use, or attach, any mesh configuration, mesh construction, or other means on or in the top of the net, as defined in paragraph (g)(1), subject to minimum mesh size restrictions, as defined in paragraph (g)(1) of this section, if it obstructs the meshes of the net in any manner.

* * * * *

§ 648.85 [Amended]

3. In § 648.85, remove paragraph (d) and redesignate paragraph (e) as paragraph (d).

4. In § 648.90:

a. Revise paragraphs (a)(4)(iii)(D) and (E), and paragraph (a)(5)(i)(D)(1);

b. Add paragraph (a)(5)(i)(D)(4);

c. Revise paragraph (a)(5)(iv).

The additions and revisions read as follows:

§ 648.90 NE multispecies assessment, framework procedures, and specifications, and flexible area action system.

(a) * * *

(4) * * *

(iii) * * *

(D) Haddock catch by the midwater trawl Atlantic herring fishery. (1) Sub-ACL values. The midwater trawl Atlantic herring fishery will be allocated sub-ACLs equal to 1 percent of the GOM haddock ABC, and 1.5 percent of the GB haddock ABC (U.S. share only), pursuant to the restrictions in § 648.86(a)(3). The sub-ACLs will be set using the process for specifying ABCs and ACLs described in paragraph (a)(4) of this section. For the purposes of these sub-ACLs, the midwater trawl Atlantic herring fishery includes vessels issued a Federal Atlantic herring permit and fishing with midwater trawl gear in Management Areas 1A, 1B, and/or 3, as defined in § 648.200(f)(1) and (3).

(2) GB haddock sub-ACL Review. Following an assessment of the total GB haddock stock, the Groundfish PDT will conduct a review of the sub-ACL and recommend to the Groundfish Committee and Council a sub-ACL for the midwater trawl Atlantic herring fishery of 1 and up to 2 percent of the GB haddock U.S. ABC. The sub-ACL review should consider factors including, but not limited to, groundfish fishery catch performance, expected groundfish fishery utilization of the GB haddock ACL, status of the GB haddock resource, recruitment, incoming year-class strength, and evaluation of the coefficient of variation of the GB haddock incidental catch estimates for the midwater trawl Atlantic herring fishery.

(E) Windowpane flounder catch by the Atlantic sea scallop fishery. The Atlantic sea scallop fishery, as defined in subpart D of this part, will be allocated sub-ACLs equaling 21 percent of the northern windowpane flounder ABC and 36 percent of the southern windowpane flounder ABC. The sub-ACLs will be set using the process for specifying ABCs and ACLs described in paragraph (a)(4) of this section.

* * * * *

(5) * * *

(i) * * *

(D) * * *

(1) Windowpane flounder. Unless otherwise specified in paragraphs (a)(5)(i)(D)(1)(i) and (ii) of this section, if NMFS determines the total catch exceeds the overall ACL for either stock of windowpane flounder, as described in this paragraph (a)(5)(i)(D)(1), by any amount greater than the management uncertainty buffer up to 20 percent greater than the overall ACL, the applicable small AM area for the stock shall be implemented, as specified in paragraph (a)(5)(i)(D) of this section, consistent with the Administrative Procedure Act. If the overall ACL is exceeded by more than 20 percent, the applicable large AM areas(s) for the stock shall be implemented, as specified in paragraph (a)(5)(i)(D) of this section, consistent with the Administrative Procedure Act. The AM areas defined below are bounded by the following coordinates, connected in the order listed by rhumb lines, unless otherwise noted. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6). If an overage of the overall ACL for southern windowpane flounder is a result of an overage of the sub-ACL allocated to exempted fisheries pursuant to paragraph (a)(4)(iii)(F) of this section, the applicable AM area(s) shall be in effect for any trawl vessel fishing with a codend mesh size of greater than or equal to 5 inches (12.7 cm) in other, non-specified sub-components of the fishery, including, but not limited to, exempted fisheries that occur in Federal waters and fisheries harvesting exempted species specified in § 648.80(b)(3). If an overage of the overall ACL for southern windowpane flounder is a result of an overage of the sub-ACL allocated to the groundfish fishery pursuant to paragraph (a)(4)(iii)(H)(2) of this section, the applicable AM area(s) shall be in effect for any limited access NE multispecies permitted vessel fishing on a NE multispecies DAS or sector trip. If an overage of the overall ACL for southern windowpane flounder is a result of overages of both the groundfish fishery and exempted fishery sub-ACLs, the applicable AM area(s) shall be in effect for both the groundfish fishery and exempted fisheries. If a sub-ACL for either stock of windowpane flounder is allocated to another fishery, consistent with the process specified at paragraph (a)(4) of this section, and there are AMs for that fishery, the groundfish fishery AM shall only be implemented if the sub-ACL allocated to the groundfish fishery is exceeded (i.e., the sector and common pool catch for a particular stock, including the common pool's share of any overage of the overall ACL caused by excessive catch by other sub-components of the fishery pursuant to paragraph (a)(5) of this section exceeds the common pool sub-ACL) and the overall ACL is also exceeded.

Northern Windowpane Flounder and Ocean Pout Small AM Area
Point | N. latitude | W. longitude
1 | 41°10′ | 67°40′
2 | 41°10′ | 67°20′
3 | 41°00′ | 67°20′
4 | 41°00′ | 67°00′
5 | 40°50′ | 67°00′
6 | 40°50′ | 67°40′
1 | 41°10′ | 67°40′

Northern Windowpane Flounder and Ocean Pout Large AM Area
Point | N. latitude | W. longitude
1 | 42°10′ | 67°40′
2 | 42°10′ | 67°20′
3 | 41°00′ | 67°20′
4 | 41°00′ | 67°00′
5 | 40°50′ | 67°00′
6 | 40°50′ | 67°40′
1 | 42°10′ | 67°40′

Southern Windowpane Flounder and Ocean Pout Small AM Area
Point | N. latitude | W. longitude
1 | 41°10′ | 71°30′
2 | 41°10′ | 71°20′
3 | 40°50′ | 71°20′
4 | 40°50′ | 71°30′
1 | 41°10′ | 71°30′

Southern Windowpane Flounder and Ocean Pout Small Large AM Area 1
Point | N. latitude | W. longitude
1 | 41°10′ | 71°50′
2 | 41°10′ | 71°10′
3 | 41°00′ | 71°10′
4 | 41°00′ | 71°20′
5 | 40°50′ | 71°20′
6 | 40°50′ | 71°50′
1 | 41°10′ | 71°50′

Southern Windowpane Flounder and Ocean Pout Large AM Area 2
Point | N. latitude | W. longitude
1 | (¹) | 73°30′
2 | 40°30′ | 73°30′
3 | 40°30′ | 73°50′
4 | 40°20′ | 73°50′
5 | 40°20′ | (²)
6 | (³) | 73°58.5′
7 | (⁴) | 73°58.5′
8 | ⁵ 40°32.6′ | ⁵ 73°56.4′
1 | (¹) | 73°30′
¹ The southernmost coastline of Long Island, NY, at 73°30′ W. longitude.
² The easternmost coastline of NJ at 40°20′ N. latitude, then northward along the NJ coastline to Point 6.
³ The northernmost coastline of NJ at 73°58.5′ W. longitude.
⁴ The southernmost coastline of Long Island, NY, at 73°58.5′ W. longitude.
⁵ The approximate location of the southwest corner of the Rockaway Peninsula, Queens, NY, then eastward along the southernmost coastline of Long Island, NY (excluding South Oyster Bay), back to Point 1.

(i) Reducing the size of an AM. If the overall northern or southern windowpane flounder ACL is exceeded by more than 20 percent and NMFS determines that: The stock is rebuilt, and the biomass criterion, as defined by the Council, is greater than the most recent fishing year's catch, then only the respective small AM may be implemented as described in paragraph (a)(5)(i)(D)(1) of this section, consistent with the Administrative Procedure Act. This provision only applies to a limited access NE multispecies permitted vessel fishing on a NE multispecies DAS or sector trip.

(ii) Reducing the duration of an AM. If the northern or southern windowpane flounder AM is implemented in the third fishing year following the year of an overage, as described in paragraph (a)(5)(i)(D) of this section, and NMFS subsequently determines that the applicable windowpane flounder ACL was not exceeded by any amount the year immediately after which the overage occurred (i.e., the second year), on or after September 1 the AM can be removed once year-end data are complete. This reduced duration does not apply if NMFS determines during year 3 that a year 3 overage of the applicable windowpane flounder ACL has occurred. This provision only applies to a limited access NE multispecies permitted vessel fishing on a NE multispecies DAS or sector trip.

* * * * *

(4) Ocean pout. Unless otherwise specified in paragraphs (a)(5)(i)(D)(1)(i) and (ii) of this section, if NMFS determines the total catch exceeds the overall ACL for ocean pout, as described in paragraph (a)(5)(i)(D)(1) of this section, by any amount greater than the management uncertainty buffer up to 20 percent greater than the overall ACL, the applicable small AM area for the stock shall be implemented, as specified in paragraph (a)(5)(i)(D) of this section, consistent with the Administrative Procedure Act. If the overall ACL is exceeded by more than 20 percent, large AM area(s) for the stock shall be implemented, as specified in paragraph (a)(5)(i)(D) of this section, consistent with the Administrative Procedure Act. The AM areas for ocean pout are defined in paragraph (a)(5)(i)(D)(1) of this section, connected in the order listed by rhumb lines, unless otherwise noted. Vessels fishing with trawl gear in these areas may only use a haddock separator trawl, as specified in § 648.85(a)(3)(iii)(A); a Ruhle trawl, as specified in § 648.85(b)(6)(iv)(J)(3); a rope separator trawl, as specified in § 648.84(e); or any other gear approved consistent with the process defined in § 648.85(b)(6).

* * * * *

(iv) AMs if the sub-ACL for the Atlantic sea scallop fishery is exceeded. At the end of the scallop fishing year, NMFS will evaluate whether Atlantic sea scallop fishery catch exceeded the sub-ACLs for any groundfish stocks allocated to the scallop fishery. On January 15, or when information is available to make an accurate projection, NMFS will also determine whether total catch exceeded the overall ACL for each stock allocated to the scallop fishery. When evaluating whether total catch exceeded the overall ACL, NMFS will add the maximum carryover available to sectors, as specified at § 648.87(b)(1)(i)(C), to the estimate of total catch for the pertinent stock.

(A) Threshold for implementing the Atlantic sea scallop fishery AMs. If scallop fishery catch exceeds the scallop fishery sub-ACLs for any groundfish stocks in paragraph (a)(4) of this section by 50 percent or more, or if scallop fishery catch exceeds the scallop fishery sub-ACL by any amount and total catch exceeds the overall ACL for a given stock, then the applicable scallop fishery AM will take effect, as specified in § 648.64 of the Atlantic sea scallop regulations.

(B) 2017 and 2018 fishing year threshold for implementing the Atlantic sea scallop fishery AMs for GB yellowtail flounder and Northern windowpane flounder. For the 2017 and 2018 fishing years only, if scallop fishery catch exceeds either GB yellowtail flounder or northern windowpane flounder sub-ACLs specified in paragraph (a)(4) of this section, and total catch exceeds the overall ACL for that stock, then the applicable scallop fishery AM will take effect, as specified in § 648.64 of the Atlantic sea scallop regulations. For the 2019 fishing year and onward, the threshold for implementing scallop fishery AMs for GB yellowtail flounder and northern windowpane flounder will return to that listed in paragraph (a)(5)(iv)(A) of this section.

* * * * *

§ § 648.86, 648.90, and 648.201 [Amended]

5. In the table below, for each section in the left column, remove the text from whenever it appears throughout the section and add the text indicated in the right column.

Section | Remove | Add | Frequency
§ 648.86(a)(3)(ii)(A)(1) | § 648.85(d) | § 648.90(a)(4)(iii)(D) | 1
§ 648.86(a)(4) | § 648.85(d) | § 648.90(a)(4)(iii)(D) | 1
§ 648.90(a)(5)(iii) | § 648.85(d) | § 648.90(a)(4)(iii)(D) | 1
§ 648.201(a)(2) | § 648.85(d) | § 648.90(a)(4)(iii)(D) | 1

[FR Doc. 2017-13050 Filed 6-21-17; 8:45 am]

BILLING CODE 3510-22-P